DEPARTMENT OF THE INTERIOR

National Park Service

National Register of Historic Places; Notification of Pending Nominations and Related Actions

Nominations for the following properties being considered for listing or related actions in the National Register were received by the National Park Service before June 3, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by July 5, 2006.

John W. Roberts,
Acting Chief, National Register/National Historic Landmarks Program.

COLORADO

Denver County

Baur Confectionery Company, (Downtown Denver MPS) 1512-14 Curtis St., Denver, 06000590

Jefferson County

Fort, The, 19192 CO 8, Morrison, 06000585

CONNECTICUT

Fairfield County

Westport Bank and Trust Company, 87 Post Rd. E, Westport, 06000593

Hartford County

Babb's Beach, 435 Babbs Rd., Suffield, 06000591

King, George, House, 12 N. Main St., Sharon, 06000592

ILLINOIS

Champaign County

Chanute Field Historic District, Rantoul National Aviation Center, Rantoul, 06000594

KANSAS

Ellsworth County

Insurance Building, 115 N. Douglas Ave., Ellsworth, 06000595

Harper County

Campbell, I.P., Building, 116 W. Main St., Harper, 06000600

Morris County

Furney Farm, 649 E. KS 56, Council Grove, 06000596

Pratt County

Ellis, Earl H., VFW Post #1362, 701 E. 1st St., Pratt, 06000597

Sedgwick County

Grace Methodist Episcopal Church, 944 S. Topeka, Wichita, 06000599

Sherman County

Ennis, Mary Seaman, House, 202 W. 13th St., Goodland, 06000598

MICHIGAN

Wayne County

Eddystone Hotel,

100-118 Sproat St., Detroit, 06000588

Park Avenue Hotel, 2643 Park Ave., Detroit, 06000586

Rosedale Park Historic District, Roughly bounded by Fenkell, Outer Dr. W, Grand River Ave., Southfiield Fwy, Glastonbury, Lyndon, Westwood Dr., Detroit, 06000587

MINNESOTA

Redwood County

Walnut Grove Creamery Association, 521 Main St., Walnut Grove, 06000602

Waseca County

Strangers Refuge Lodge Number 74, IOOF, 119 S. Broadway Ave., New Richland, 06000601

MISSOURI

St. Louis Independent City

Colchester Apartments,

4-10-14-20 N. Kingshighway Blvd., St. Louis (Independent City), 06000603

NEBRASKA

Boyd County

Ponca Agency, Address Restricted, Niobrara, 06000554

Buffalo County

Fort Theater, 2205 Central Ave., Kearney, 06000607

Cass County

Gering, Paul, House, 423 N. 6th St., Plattsmouth, 06000604

Union Jail, 1st and Rock St., Union, 06000605

Cheyenne County

Wild Horse Draw—Leeman's Springs Archeological District, Address Restricted, Sidney, 06000556

Douglas County

Vinton Street Commercial Historic District, Vinton St., bet. Elm St. and S 17th St., Omaha, 06000608

Fillmore County

Warner's Filling Station and House, 737 and 745 “G” St., Geneva, 06000606

Garfield County

Burwell Carnegie Library, (Carnegie Libraries in Nebraska MPS) 110 S. 7th Ave., Burwell, 06000557

Hub Building, 180 Grand Ave., Burwell, 06000558

Knox County

Ponca Agency Archeological District, Address Restricted, Niobrara, 06000555

Lancaster County

Burnett, Edgar A., House, 3256 Holdrede St., Lincoln, 06000609

NEW JERSEY

Atlantic County

Bethlehem Loading Company Mays Landing Plant Archeological Historic District, 109 NJ 50, Estell Manor, 06000559

Middlesex County

Johnson, William H., House, 52 Welton St., New Brunswick, 06000560

NEW YORK

Columbia County

Tilden, Gov. Samuel J., Monument, Cemetery Rd., New Lebanon, 06000573

Dutchess County

Titus, Elias, House, 170 Titusville Rd., Red Oaks Mill, 06000568

Erie County

Diebolt, Edward A., House, 62 Niagara Falls Blvd., Buffalo, 06000565

Packard Motor Car Showroom and Storage Facility, 1325 Main St., Buffalo, 06000561

Villa Maria Motherhouse Complex, 600 Doat St., Cheektowaga, 06000571

Fulton County

Shew, Godfrey, House, 1632 S. Shore Rd., Fish House, 06000574

Nassau County

Jackson, Samuel and Elbert, House, 1542 Wantagh Ave., Wantagh, 06000563

Smith, Almeron and Olive, House, 50 South Dr., Plandome, 06000569

Onondaga County

Strathmore “By the Park” Subdivision, (Historic Designed Landscapes of Syracuse MPS) Glenwood, S. Geddes, Wellesley, Twin Hills, Strathmore, Arden, Alanson, Charmouth, Robineau, Syracuse, 06000564

Orange County

St. Thomas Episcopal Church, 47 Old Rte 9W (188 River Rd.), New Windsor, 06000566

Rockland County

McCullers, Carson, House, 131 S. Broadway, South Nyack, 06000562

Schoharie County

Richmondville United Methodist Church, 266 Main St., Richmondville, 06000575

St. Mark's Evangelical Lutheran Church, 326 Main St., Middleburgh, 06000572

Wayne County

Jackson—Perkins House, 310 High St., Neward, 06000567

Westchester County

Trinity—St. Paul's Episcopal Church, 311 Huguenot St., New Rochelle, 06000576

OREGON

Curry County

Wheeler Ridge Japanese Bombing Site, Rogue River-Siskiyou National Forest, Brookings, 06000589

Marion County

Deidrich Building, (Downtown Area of Stayton MPS) 195 N. Third Ave., Stayton, 06000570

RHODE ISLAND

Kent County

Crompton Mill Historic District, 20 Remington St., 53 and 65 Manchester St., West Warwick, 06000577

SOUTH CAROLINA

Allendale County

Allendale County Courthouse, 292 Barnwell Hwy., Allendale, 06000580

Orangeburg County

Willow Consolidated High School, 2750 Cope Rd., Norway, 06000581

Spartanburg County

Woodruff High School, 239 E. Hayne St., Woodruff, 06000578

Williamsburg County

McCullum—Murray House, C.E. Murray Blvd., Greeleyville, 06000579

TENNESSEE

Loudon County

Lenoir Collon Mill Warehouse, 150 Bussells Ferry Rd., Lenoir City, 06000584

Shelby County

Edway Building, 147 Jefferson Ave., Memphis, 06000582

Southwestern at Memphis Sorority Row Historic District, 2000 North Parkway, Rhodes College, Memphis, 06000583

A request for removal has been made for the following resource:

MINNESOTA

Cass County

Neils, Julius, House, N. Third St., Cass Lake, 80001991

[FR Doc. E6-9674 Filed 6-19-06; 8:45 am]

BILLING CODE 4312-51-P